DEPARTMENT OF ENERGY

Federal Energy Regulatory Commission

[Docket No. EG02-26-000, et al.]

CPN 3rd Turbine, Inc., et al.; Electric Rate and Corporate Regulation Filings

November 15, 2001.

Take notice that the following filings have been made with the Commission:

1. CPN 3rd Turbine, Inc.

[Docket No. EG02-26-000]

Take notice that on November 9, 2001, CPN 3rd Turbine, Inc. (CPN) filed with the Federal Energy Regulatory Commission (Commission) an application for determination of exempt wholesale generator status pursuant to part 365 of the Commission's regulations.

CPN, a Delaware corporation, proposes to own and operate a 45 MW natural gas-fired, simple-cycle, combination turbine generator located at the John F. Kennedy International Airport. CPN will sell the output at wholesale to Calpine Energy Services, L.P., and other purchasers.

Comment date: December 6, 2001, in accordance with Standard Paragraph E at the end of this notice. The Commission will limit its consideration of comments to those that concern the adequacy or accuracy of the application.

2. FPL Energy Marcus Hook, L.P.

[Docket No. EG02-27-000]

Take notice that on November 13, 2001, FPL Energy Marcus Hook, L.P. (the Applicant), with its principal office at 700 Universe Boulevard, Juno Beach, FL 33408, filed with the Federal Energy Regulatory Commission (Commission), an application for determination of exempt wholesale generator status pursuant to part 365 of the Commission's regulations.

Applicant states that it is a Delaware limited partnership engaged directly and exclusively in the business of developing and operating an approximately 740 MW generating facility to be located in Marcus Hook, Pennsylvania. Electric energy produced by the facility will be sold at wholesale or at retail exclusively to foreign consumers.

Comment date: December 6, 2001, in accordance with Standard Paragraph E at the end of this notice. The Commission will limit its consideration of comments to those that concern the adequacy or accuracy of the application.

3. Duke Energy Murray, LLC

[Docket No. EG02-28-000]

Take notice that on November 13, 2001, Duke Energy Murray, LLC (Duke Murray) filed with the Federal Energy Regulatory Commission (the Commission) for determination an application for exempt wholesale generator status pursuant to section 32 of the Public Utility Holding Company Act of 1935, as amended, and part 365 of the Commission's regulations.

Duke Murray is a Delaware limited liability company that will be engaged directly and exclusively in the business of owning and operating all or part of one or more eligible facilities to be located in Murray County, Georgia. The eligible facilities will consist of an approximately 1,240 MW natural gas-fired, combined cycle electric generation plant and related interconnection facilities. The output of the eligible facilities will be sold at wholesale.

Comment date: December 6, 2001, in accordance with Standard Paragraph E at the end of this notice. The Commission will limit its consideration of comments to those that concern the adequacy or accuracy of the application.

4. Condon Wind Power, LLC

[Docket No. EG02-29-000]

Take notice that on November 13, 2001, Condon Wind Power, LLC (Condon Wind Power), whose sole member is SeaWest WindPower, Inc., located at 1455 Frazee Road, Ninth Floor, San Diego, California 92108, filed with the Federal Energy Regulatory Commission (Commission) an application for determination of exempt wholesale generator status pursuant to part 365 of the Commission's regulations.

Condon Wind Power will construct, own or lease and operate a wind-powered generating facility located near Condon, Oregon (the Project). The Project, which is to be developed in two phases, will have a total maximum output of 49.8 MW. Phase I is expected to begin commercial operation no later than December 31, 2001; Phase II is expected to begin commercial operation on or about June 15, 2002. Condon Wind Power will be engaged directly and exclusively in the business of owning or leasing (or subleasing) and/or operating the Project and selling electric energy exclusively at wholesale within the meaning of section 32(a) of PUHCA.

Comment date: December 6, 2001, in accordance with Standard Paragraph E at the end of this notice. The Commission will limit its consideration of comments to those that concern the adequacy or accuracy of the application.

5. Duke Energy Murray, LLC

[Docket No. ER02-302-000]

Take notice that on November 13, 2001, Duke Energy Murray, LLC (Duke Murray) tendered for filing with the Federal Energy Regulatory Commission (Commission) pursuant to section 205 of the Federal Power Act its proposed FERC Electric Tariff No. 1.

Duke Murray seeks authority to sell energy and capacity, as well as ancillary services, at market-based rates, together with certain waivers and preapprovals. Duke Murray also seeks authority to sell, assign, or transfer transmission rights that it may acquire in the course of its marketing activities. Duke Murray seeks an effective date 60 days from the date of filing for its proposed rate schedules.

Comment date: December 4, 2001, in accordance with Standard Paragraph E at the end of this notice.

6. Southwest Power Pool, Inc.

[Docket No. ER02-304-000]

Take notice that on November 13, 2001, Southwest Power Pool, Inc. (SPP) submitted for filing with the Federal Energy Regulatory Commission (Commission) two service agreements for Firm Point-to-Point Transmission Service and Loss Compensation Service with Texas-NM Power Company (Transmission Customer).

SPP requests an effective date of November 8, 2001 for these service agreements. A copy of this filing was served on the Transmission Customer.

Comment date: December 4, 2001, in accordance with Standard Paragraph E at the end of this notice.

7. Condon Wind Power, LLC

[Docket No. ER02-305-000]

Take notice that on November 9, 2001, Condon Wind Power, LLC (Condon Wind Power) applied to the Federal Energy Regulatory Commission (Commission) for acceptance of Condon Wind Power's Rate Schedule FERC No. 1; the granting of certain blanket approvals, including the authority to sell electric energy and capacity at market-based rates; and the waiver of certain Commission regulations.

Comment date: November 30, 2001, in accordance with Standard Paragraph E at the end of this notice.

8. Southwest Power Pool, Inc.

[Docket No. ER02-306-000]

Take notice that on November 13, 2001, Southwest Power Pool, Inc. (SSP) submitted for filing with the Federal Energy Regulatory Commission (Commission) two executed service agreements for Firm Point-to-Point Transmission Service with Aquila Energy Marketing Corporation (Transmission Customer).

SPP requests and effective date of January 20, 2002 for these service agreements. A copy of this filing was served on the Transmission Customer.

Comment date: December 4, 2001, in accordance with Standard Paragraph E at the end of this notice.

9. American Transmission Company LLC

[Docket No. ER02-307-000]

Take notice that on November 13, 2001, American Transmission Company LLC (ATCLLC) tendered for filing with the Federal Energy Regulatory Commission (Commission) Firm and Non-Firm Point-to-Point Service Agreements for El Paso Merchant Energy, L.P.

ATCLLC requests an effective date of October 31, 2001.

Comment date: December 4, 2001, in accordance with Standard Paragraph E at the end of this notice.

10. RWE Trading Americas Inc.

[Docket No. ER02-308-000]

Take notice that on November 13, 2001, RWE Trading Americas Inc. (RWE Trading) filed with the Federal Energy Regulatory Commission (Commission) for acceptance of RWE Trading's FERC Electric Rate Schedule No. 1. In addition, RWE Trading requests a Commission order granting of certain blanket approvals, including the authority to sell electricity at market-based rates, and the waiver of certain Commission regulations. A January 9, 2002 effective date has been requested.

RWE Trading intends to engage in wholesale electric power and energy purchases and sales as a marketer. RWE Trading is not in the business of generating or transmitting electric power. RWE Trading is a wholly-owned subsidiary of RWE Trading GmbH of Essen, Germany, the European power marketing affiliate of RWE AG, Essen, Germany.

Comment date: December 4, 2001, in accordance with Standard Paragraph E at the end of this notice.

11. MEP Clarksdale Power, LLC

[Docket No. ER02-309-000]

Take notice that on November 13, 2001, MEP Clarksdale Power, LLC (MEP Clarksdale), an indirect wholly owned subsidiary of Aquila, Inc., tendered for filing with the Federal Energy Regulatory Commission (Commission) a rate schedule to engage in sales at market-based rates. MEP Clarksdale included in its filing a proposed code of conduct.

Comment date: December 4, 2001, in accordance with Standard Paragraph E at the end of this notice.

12. Reliant Energy Desert Basin, LLC

[Docket No. ER02-310-000]

Take notice that on November 13, 2001, Reliant Energy Desert Basin, LLC (Reliant Energy Desert Basin) tendered for filing with the Federal Energy Regulatory Commission (Commission) a service agreement establishing Reliant Energy Services, Inc. (RES) as a customer under Reliant Energy Desert Basin's market-based rate tariff. Reliant Energy Desert Basin states that a copy of the filing was served on RES.

Reliant Energy Desert Basin requests an effective date of October 12, 2001 for the service agreement.

Comment date: December 4, 2001, in accordance with Standard Paragraph E at the end of this notice.

13. Southern Indiana Gas and Electric Company

[Docket No. ER02-311-000]

Take notice that on November 13, 2001, Southern Indiana Gas and Electric Company (SIGECO), tendered for filing with the Federal Energy Regulatory Commission (Commission) Agreements for Firm and Non-Firm Point-To-Point Transmission Service with Axia Energy, LP under Part II of SIGECO's Transmission Services Tariff, Docket No. 0A96-117-000, filed July 9, 1996. To date, no Service has been provided by SIGECO to Calpine Energy Services, L.P. pursuant to this Agreement.

SIGECO requests waiver of the 60-day prior notice requirement to allow the service agreements to become effective as of August 6, 2001.

Comment date: December 4, 2001, in accordance with Standard Paragraph E at the end of this notice.

14. Southern Indiana Gas and Electric Company

[Docket No. ER02-312-000]

Take notice that on November 13, 2001, Southern Indiana Gas and Electric Company (SIGECO) tendered for filing with the Federal Energy Regulatory Commission (Commission) Agreements for Firm and Non-Firm Point-To-Point Transmission Service with Calpine Energy services, L.P. under Part II of SIGECO's Transmission Services Tariff, Docket No. 0A96-117-000, filed July 9, 1996. To date, no Service has been provided by SIGECO to Calpine Energy Services, L.P. pursuant to this Agreement.

SIGECO requests waiver of the 60-day prior notice requirement to allow the service agreements to become effective as of July 13, 2001.

Comment date: December 4, 2001, in accordance with Standard Paragraph E at the end of this notice.

15. Southern Indiana Gas and Electric Company

[Docket No. ER02-313-000]

Take notice that on November 13, 2001, Southern Indiana Gas and Electric Company (SIGECO) tendered for filing with the Federal Energy Regulatory Commission (Commission) Agreements for Firm and Non-Firm Point-To-Point Transmission Service with Exelon Generation Company, LLC under Part II of SIGECO's Transmission Services Tariff, Docket No. 0A96-117-000, filed July 9, 1996. To date, no Service has been provided by SIGECO to Exelon Generation Company, LLC pursuant to this Agreement.

SIGECO requests waiver of the 60-day prior notice requirement to allow the service agreements to become effective as of August 6, 2001.

Comment date: December 4, 2001, in accordance with Standard Paragraph E at the end of this notice.

16. Southern Indiana Gas and Electric Company

[Docket No. ER02-314-000]

Take notice that on November 13, 2001, Southern Indiana Gas and Electric Company (SIGECO), tendered for filing with the Federal Energy Regulatory Commission (Commission) Agreements for Firm and Non-Firm Point-To-Point Transmission Service with Allegheny Energy Supply Company, LLC under Part II of SIGECO's Transmission Services Tariff, Docket No. 0A96-117-000, filed July 9, 1996. To date, no Service has been provided by SIGECO to Alleghney Energy Supply Company pursuant to this Agreement.

SIGECO requests waiver of the 60-day prior notice requirement to allow the service agreements to become effective as of March 19, 2001.

Comment date: December 4, 2001, in accordance with Standard Paragraph E at the end of this notice.

17. Southern Indiana Gas and Electric Company

[Docket No. ER02-315-000]

Take notice that on November 13, 2001, Southern Indiana Gas and Electric Company (SIGECO) tendered for filing with the Federal Energy Regulatory Commission (Commission) an Agreement for Firm Point-To-Point Transmission Service with SIGECO Wholesale Power Marketing under Part II of SIGECO's Transmission Services Tariff, Docket No. 0A96-117-000, filed July 9, 1996. To date, no Service has been provided by SIGECO to SIGECO Wholesale Power Marketing pursuant to this Agreement.

SIGECO requests waiver of the 60-day prior notice requirement to allow the service agreements to become effective as of March 2, 2001.

Comment date: December 4, 2001, in accordance with Standard Paragraph E at the end of this notice.

18. Xcel Energy Services, Inc.

[Docket No. ER02-316-000]

Take notice that on November 13, 2001, Xcel Energy Services, Inc. (XES), on behalf of Public Service Company of Colorado (Public Service), submitted for filing with the Federal Energy Regulatory Commission (Commission) a Master Power Purchase and Sale Agreement between Public Service and Wabash Valley Power Association, Inc. (Wabash), which is in accordance with Public Service's Rate Schedule for Market-Based Power Sales (Public Service FERC Electric Tariff, First Revised Volume No. 6).

XES requests that this agreement become effective on November 13, 2001.

Comment date: December 4, 2001, in accordance with Standard Paragraph E at the end of this notice.

19. Sierra Pacific Power Company

[Docket No. ER02-317-000]

Take notice that on November 13, 2001, Sierra Pacific Power Company tendered for filing with the Federal Energy Regulatory Commission (Commission) pursuant to Section 205 of the Federal Power Act, an executed Modification No. 1 to Network Integration Transmission Service Agreement (Modification to Service Agreement) between Sierra Pacific Power Company and the Truckee Donner Public Utility District. The Network Integration Transmission Service Agreement was filed in compliance with Section 29.5 of the Sierra Pacific Resources Operating Companies Open Access Transmission Tariff and accepted for filing effective September 15, 1999. The Modification Agreement is being filed at the request of the Truckee Donner Public Utility District.

Sierra has requested that the Commission accept the Modification to Service Agreement and permit service in accordance therewith effective October 1, 2001.

Comment date: December 4, 2001, in accordance with Standard Paragraph E at the end of this notice.

20. Sierra Pacific Power Company

[Docket No. ER02-318-000]

Take notice that on November 13, 2001, Sierra Pacific Power Company tendered for filing with the Federal Energy Regulatory Commission (Commission) pursuant to section 205 of the Federal Power Act, an executed Modification No. 1 to Network Integration Transmission Service Agreement (Modification to Service Agreement) between Sierra Pacific Power Company and the City of Fallon. The Network Integration Transmission Service Agreement was filed in compliance with section 29.5 of the Sierra Pacific Resources Operating Companies Open Access Transmission Tariff and accepted for filing effective May 8, 2000.

The Modification Agreement is being filed at the request of the City of Fallon. Sierra has requested that the Commission accept the Modification Agreement and permit service in accordance therewith effective September 1, 2001.

Comment date: December 4, 2001, in accordance with Standard Paragraph E at the end of this notice.

21. CinCap VII, LLC

[Docket No. ER02-319-000]

Take notice that on November 13, 2001, CinCap VII, LLC tendered for filing with the Federal Energy Regulatory Commission (Commission) a notice of change in status and amendments to its market-based rate tariff and code of conduct to reflect certain changes in its ownership.

Comment date: December 4, 2001, in accordance with Standard Paragraph E at the end of this notice.

22. The Montana Power Company

[Docket No. ER02-321-000]

Take notice that on November 13, 2001, Montana Power Company (Montana Power) filed with the Federal Energy Regulatory Commission (Commission) pursuant to Section 205 of the Federal Power Act supplements to Rate Schedule FERC No. 174, the General Transfer Agreement between Montana Power and the Bonneville Power Administration (BPA). Montana Power states that the supplements are being filed to update Transfer Charges for service rendered by Montana Power to BPA based on changes in certain transmission rates charged by BPA. Montana Power has proposed to make each of the supplements effective in accordance with their terms.

Comment date: December 4, 2001, in accordance with Standard Paragraph E at the end of this notice.

23. CinCap Madison, LLC

[Docket No. ER02-322-000 and ER00-1784-002]

Take notice that on November 13, 2001, CinCap Madison, LLC tendered for filing with the Federal Energy Regulatory Commission (Commission) a notice of change in status and amendments to its market-based rate tariff and code of conduct to reflect certain changes in its ownership.

Comment date: December 4, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-29201 Filed 11-21-01; 8:45 am]

BILLING CODE 6717-01-P